ENVIRONMENTAL PROTECTION AGENCY

[OEI-2003-0026; FRL-7521-4]

Toxic Chemical Release Reporting; Alternate Threshold for Low Annual Reportable Amounts; Request for Comment on Renewal Information Collection

Correction

In notice document 03-16584 beginning on page 39071 in the issue of Tuesday, July 1, 2003, make the following correction:

On page 39072, in the first column, under the heading dates, in the third and fourth lines, “July 31, 2003” should read, “September 2, 2003”.

[FR Doc. C3-16584 Filed 7-21-03; 8:45 am]

BILLING CODE 1505-01-D

DEPARTMENT OF TRANSPORTATION

Federal Aviation Administration

14 CFR Part 71

[Docket No.FAA-2003-15299; Airspace Docket No. 03-AWP-9]

Modification of Class E Airspace; Window Rock, AZ

Correction

In rule document 03-15526 beginning on page 36743 in the issue of Thursday, June 19, 2003 make the following correction:

§ 71.1 [Corrected]

On page 36744, in § 71.1, in the first column, under the heading “AWP AZ E5 Window Rock, AZ [Revised] ” in the tenth line, “VARTAC” should read “VORTAC”.

[FR Doc. C3-15526 Filed 7-21-03; 8:45 am]

BILLING CODE 1505-01-D